DEPARTMENT OF ENERGY

Federal Energy Regulatory Commission

[Docket No. CP01-21-000]

Ozark Gas Transmission, L.L.C. and Arkansas Western Pipeline, L.L.C.; Notice of Application

November 3, 2000.

Take notice that on October 27, 2000, Ozark Gas Transmission, L.L.C. (Ozark), 104 Central Park One, 525 Central Park Drive, Oklahoma City, Oklahoma 73105, and Arkansas Western Pipeline, L.L.C. (AWP), 104 Central Park One, 525 Central Park Drive, Oklahoma City, Oklahoma 73105, filed a joint application pursuant to Sections 7(c) and 7(b) of the Natural Gas Act (NGA) for issuance of a certificate of public convenience and necessity to Ozark to acquire facilities currently owned and operated by AWP and for an order granting AWP permission and approval to abandon its facilities and services by transfer to Ozark, all as more fully set forth in the application which is on file with the Commission and open for public inspection. This filing may also be viewed on the Internet at http://www.ferc.fed.us/online/rims.htm (call 202/208-2222 for assistance).

Any questions regarding this application should be directed to counsel for Ozark and AWP, James F. Bowe, Jr., Dewey Ballantine LLP, at (202) 429-1444, fax (202) 429-1579, or jbowe@deweyballantine.com.

Any person desiring to be heard or making any protest with reference to said petition should on or before November 24, 2000, file with the Federal Energy Regulatory Commission, 888 First Street, NE., Washington, DC 20426, a motion to intervene or protest in accordance with the requirements of the Commission's Rules of Practice and Procedure (18 CFR 385.214 or 385.211) and the Regulations under the Natural Gas Act (18 CFR 157.10). All protests filed with the Commission will be considered by it in determining the appropriate action to be taken but will not serve to make protestants parties to the proceeding. The Commission's rules require that protestors provide copies of their protests to the party or person to whom the protests are directed. Any person wishing to become a party to a proceeding or to participate as a party in any hearing therein must file a motion to intervene in accordance with the Commission's Rules. Comments and protests may be filed electronically via the internet in lieu of paper. See, 18 CFR 385.2001(a)(1)(iii) and the instructions on the Commission's web site at http://www.ferc.fed.us/cfi/doorbell.htm.

A person obtaining intervenor status will be placed on the service list maintained by the Secretary of the Commission and will receive copies of all documents filed by the applicant and by every one of the intervenors. An intervenor can file for rehearing of any Commission order and can petition for court review of any such order. However, an intervenor must submit copies of comments or any other filing it makes with the Commission to every other intervenor in the proceeding as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, comments will not receive copies of all documents filed by other parties or issued by the Commission and will not have the right to seek rehearing or appeal the Commission's final order to a federal court.

The Commission will consider all comments and concerns equally, whether filed by commenters or those requesting intervenor status.

Take further notice that, pursuant to the authority contained in and subject to the jurisdiction conferred upon the Federal Energy Regulatory Commission by Sections 7 and 15 of the NGA and the Commission's Rules of Practice and Procedure, a hearing will be held without further notice before the Commission or its designee on this petition if no motion to intervene is filed within the time required herein, if the Commission on its own review of the matter finds that a grant of the requested exemption is required by the public convenience and necessity. If a motion for leave to intervene is timely filed, or if the Commission on its own motion believes that a formal hearing is required, further notice of such hearing will be duly given.

Under the procedure herein provided for, unless otherwise advised, it will be unnecessary for AWP or Ozark to appear or be represented at the hearing.

David P. Boergers,
Secretary.

[FR Doc. 00-28752 Filed 11-8-00; 8:45 am]

BILLING CODE 6717-01-M